DEPARTMENT OF AGRICULTURE

Rural Housing Service

Notice of Intent to Hold Public Forums to Solicit Feedback From the Public Regarding the Section 523 Mutual Self-Help Housing Program

AGENCY: Rural Housing Service, USDA.

ACTION: Notice.

SUMMARY: The Rural Housing Service, USDA published a document in the Federal Register of February 2, 2010, concerning upcoming public forums and request for comments regarding the Section 523 Mutual Self-Help Housing Program. Notice is hereby given that the forums scheduled for June 4, 2010 in Vermont and June 11, 2010 in Iowa have been cancelled.

FOR FURTHER INFORMATION CONTACT: Carolyn L. Bell, carolyn.bell@wdc.usda.gov or (202) 720-1532.

Dated: May 4, 2010.
Tammye Treviño,
Administrator, Rural Housing Service.

[FR Doc. 2010-11559 Filed 5-13-10; 8:45 am]

BILLING CODE 3410-XV-P